DEPARTMENT OF THE INTERIOR

National Park Service

Native American Graves Protection and Repatriation Review Committee Findings Related to the Identity of Cultural Items in the Possession of the American Museum of Natural History, New York, NY

AGENCY: National Park Service, Interior.

ACTION: Native American Graves Protection and Repatriation Review Committee: Findings.

This notice is published as part of the National Park Service's administrative responsibilities pursuant to the Native American Graves Protection and Repatriation Act (25 U.S.C. 3006(g)). The findings of fact do not necessarily represent the views of the National Park Service or the Secretary of the Interior.

SUMMARY: The Native American Graves Protection and Repatriation Review Committee (Review Committee) was established by section 8 of the Native American Graves Protection and Repatriation Act (NAGPRA; 25 U.S.C. 3006), and is an advisory body governed by the Federal Advisory Committee Act (5 App. U.S.C. 1-16). At its October 30-31, 2009, public meeting in Sarasota, FL, the Review Committee, acting pursuant to its statutory responsibility (25 U.S.C. 3006(c)(3)), reviewed the record and made findings of fact related to the identity of 45 cultural items in the possession of the American Museum of Natural History at the request of the San Carlos Apache Tribe and the White Mountain Apache Tribe, acting through the Western Apache NAGPRA Working Group. The Review Committee found that each of the 45 cultural items was both a “sacred object” (25 U.S.C. 3001(3)(C), 43 CFR 10.2(d)(3)) and “cultural patrimony” (25 U.S.C. 3001(3)(D), 43 CFR 10.2(d)(4)).

SUPPLEMENTARY INFORMATION: In June 2007, the San Carlos Apache Tribe and the White Mountain Apache Tribe, acting through the Western Apache NAGPRA Working Group, submitted a request for repatriation of certain items in the possession of the American Museum of Natural History. The San Carlos Apache Tribe requested the repatriation of 29 items, and the White Mountain Apache Tribe requested the repatriation of 16 different items. The San Carlos Apache Tribe and the White Mountain Apache Tribe claimed each item as both a “sacred object” (25 U.S.C. 3001(3)(C), 43 CFR 10.2(d)(3)) and “cultural patrimony” (25 U.S.C. 3001(3)(D), 43 CFR 10.2(d)(4)).

In response, the American Museum of Natural History agreed that the repatriation request satisfied the criteria for such requests (43 CFR 10.10(a)). Though it agreed that the information in the repatriation request showed that each of the 45 items in question was a “cultural item”, the American Museum of Natural History would neither agree nor disagree that the items belonged to the category of sacred object and the category of cultural patrimony, and it identified the items as “cultural items” in its two notices of intent to repatriate the 45 cultural items that were published in the Federal Register on March 9, 2009 (74 Fed. Reg. 10,066 and 10,069).

The American Museum of Natural History's position regarding the category or categories of cultural item to which each of the 45 cultural items belonged led the San Carlos Apache Tribe and the White Mountain Apache Tribe, acting through the Western Apache NAGPRA Working Group, to request from the Review Committee findings of fact on the identity, by category, of each cultural item. The Review Committee Chair agreed to the request.

At its October 30-31, 2009, meeting, the Review Committee reviewed the repatriation request from the San Carlos Apache Tribe and the White Mountain Apache Tribe for the 45 cultural items, and heard presentations by the San Carlos Apache Tribe and the White Mountain Apache Tribe in order to answer two questions. The first question was: Did the written repatriation request—the initial document, dated June 7, 2006, plus all relevant subsequent documents sent prior to January 22, 2009—submitted to the American Museum of Natural History (Museum) by the San Carlos Apache Tribe and the White Mountain Apache Tribe, through the Western Apache NAGPRA Working Group, for items deemed by the requesting tribes to be both “sacred objects” and “cultural patrimony”, show that, more likely than not, some or all of the 45 items that the Museum stated were “cultural items” in their Notices of Intent to Repatriate in fact were “sacred objects”, as defined at 25 U.S.C. 3001(3)(C) and 43 CFR 10.2(d)(3)? If yes, which cultural items were shown to be sacred objects? The second question was: Did the written request for repatriation referenced in Question #1 show that, more likely than not, some or all of the 45 items that the Museum stated were “cultural items” in their Notices of Intent to Repatriate in fact were “cultural patrimony”, as defined at 25 U.S.C. 3001CFR 10.2(d)(4)? If yes, which cultural items were shown to be cultural patrimony?

Findings of Fact: By a unanimous vote—six members, comprising a quorum, were present—the Review Committee found that the information contained in the written repatriation request submitted to the American Museum of Natural History by the San Carlos Apache Tribe and the White Mountain Apache Tribe, as well as the information presented by the tribes to the Review Committee on October 30, 2009, in Sarasota, Florida, showed that, more likely than not, each of the 45 cultural items was both a “sacred object” and “cultural patrimony.”

Dated: February 2, 2010.
Dan Monroe,
Acting Chair, Native American Graves Protection and Repatriation Review Committee.

[FR Doc. 2010-7936 Filed 4-7-10; 8:45 am]

BILLING CODE 4312-50-P